COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List products and services to be furnished by nonprofit agencies employing persons who are blind or have other severe disabilities.

EFFECTIVE DATE: September 14, 2008.

ADDRESSES: Committee for Purchase From People Who Are Blind or Severely Disabled, Jefferson Plaza 2, Suite 10800, 1421 Jefferson Davis Highway, Arlington, Virginia 22202-3259

FOR FURTHER INFORMATION CONTACT: Kimberly M. Zeich, Telephone: (703) 603-7740, Fax: (703) 603-0655, or e-mail CMTEFedReg@jwod.gov.

SUPPLEMENTARY INFORMATION: On May 23, June 16 and June 20 2008, the Committee for Purchase From People Who Are Blind or Severely Disabled published notice (73 FR 30046; 33972; 35118; 35119) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Insulation Panels & Blanket

NSN: 2510-01-251-8548—Thermal,

NSN: 2510-01-251-9995—Vehicular Cab,

NSN: 2510-01-335-7363—Vehicular Cab,

NSN: 2510-01-421-8067—Vehicular Cab.

Coverage: C-List for the requirements of the Defense Supply Center Columbus, Columbus, OH.

NPA: New York City Industries for the Blind, Inc., Brooklyn, NY.

Contracting Activity: Defense Supply Center Columbus, Columbus, OH.

Shredders

NSN: 7490-00-NIB-0009—Fellowes Model 970 Cross Cut,

NSN: 7490-00-NIB-0011—Fellowes Model 4000 Cross Cut.

Coverage: A-List for the total Government requirements as specified by the General Services Administration.

NSN: 7490-00-NIB-0010—Fellowes Model 4000 Strip Cut.

Coverage: B-List for the broad Government requirements as specified by the General Services Administration.

NPA: L.C. Industries for the Blind, Inc., Durham, NC.

Contracting Activity: General Services Administration, Office Supplies & Paper Products Acquisition Ctr, New York, NY.

USB Flash Drive, Flip Style

NSN: 7520-00-NIB-1873—1 GB, no encryption,

NSN: 7520-00-NIB-1874—2 GB, no encryption,

NSN: 7520-00-NIB-1875—4GB, no encryption,

NSN: 7520-00-NIB-1877—1GB, with encryption,

NSN: 7520-00-NIB-1878—2GB, with encryption,

NSN: 7520-00-NIB-1879—4GB, with encryption,

NSN: 7520-00-NIB-1974—8GB, no encryption,

NSN: 7520-00-NIB-1976—8GB, with encryption.

Coverage: A-List for the total Government requirements as specified by the General Services Administration.

NPA: North Central Sight Services, Inc., Williamsport, PA.

Contracting Activity: General Services Administration, Federal Supply Services Region 2, New York, NY.

Services

Service Type/Location: Custodial & Grounds Maintenance,

Naval Operations Support Center,

1325 Helena Avenue,

Helena, MT.

NPA: Helena Industries, Inc., Helena, MT.

Contracting Activity: Naval Facilities (NAVFAC)—Northwest, Silverdale, WA.

Service Type/Location: Custodial Services,

Malmstrom Air Force Base,

Basewide,

Malstrom AFB, MT.

NPA: Skils'kin, Spokane, WA.

Contracting Activity: AFSPC Malmstrom, Malmstrom Air Force Base, MT.

Service Type/Location: Custodial Services,

U.S. Post Office and Courthouse,

7th Avenue and Grant Street,

Pittsburgh, PA.

NPA: Goodwill Commercial Services, Inc., Pittsburgh, PA.

Contracting Activity: General Services Administration, Public Buildings Service, (3PK), Philadelphia, PA.

Service Type/Location: Document Destruction,

Social Security Administration,

600 West Madison St,

Chicago, IL.

NPA: Goodwill Industries of Southeastern Wisconsin, Inc, Milwaukee, WI.

Contracting Activity: Social Security Administration, Chicago, IL.

Service Type/Location: Document Management & Administration Services,

Fort Rucker,

Fort Rucker, AL.

NPA: Lakeview Center, Inc., Pensacola, FL.

Contracting Activity: Department of the Army, Directorate of Contracting, Fort Rucker, AL.

Service Type/Location: Grounds Maintenance/,

Cape Canaveral Air Force Station,

Basewide,

Cape Canaveral AFS, FL.

NPA: PRIDE Industries, Roseville, CA.

Contracting Activity: 45 CONS/LGCZ, Patrick Air Force Base, FL.

Service Type/Location: Medical Transcription,

VA Hudson Valley Health Care System,

Montrose Campus,

Route 9A,

Montrose, NY.

Castle Point Campus,

Route 9D,

Castle Point, NY.

NPA: National Telecommuting Institute, Inc., Boston, MA.

Contracting Activity: The Department of Veterans Affairs, VA Medical Center—Montrose Campus, Bronx, NY.

Service Type/Location: Recycling Service,

Internal Revenue Service Headquarters,

1111 Constitution Avenue, NW.,

Washington, DC.

NPA: Didlake, Inc., Manassas, VA.

Contracting Activity: U.S. Department of the Treasury, Internal Revenue Service Headquarters, Oxon Hill, MD.

This action does not affect current contracts awarded prior to the effective date of this addition or options that may be exercised under those contracts.

Kimberly M. Zeich,
Director, Program Operations.

[FR Doc. E8-18932 Filed 8-14-08; 8:45 am]

BILLING CODE 6353-01-P